DEPARTMENT OF ENERGY

Federal Energy Regulatory Commission

[Project No. 13704-002; Project No. 13701-002; Project No. 13703-002; Project No. 13702-002]

FFP Missouri 2, LLC; Notice of Technical Meeting

a. Project Names and Numbers: From upstream to downstream, Arkabutla Lake Hydroelectric Project No. 13704, Sardis Lake Hydroelectric Project No. 13701, Enid Lake Hydroelectric Project No. 13703, and Grenada Lake Hydroelectric Project No. 13702.

b. Date and Time of Meeting: July 7, 2015; at 2:00 p.m. Eastern Time (1:00 p.m. Central Time).

c. Place: Telephone conference with the U.S. Army Corps of Engineers (Corps) and Rye Development, LLC, on behalf of FFP Missouri 2, LLC.

d. FERC Contact: Jeanne Edwards at jeanne.edwards@ferc.gov, or (202) 502-6181.

e. Purpose of Meeting: To discuss the comments filed by the Corps on May 12, 2015 concerning the operations of the proposed projects listed above.

f. A summary of the meeting will be prepared and filed in the Commission's public file for the projects.

g. All local, state, and federal agencies, Indian tribes, and other interested parties are invited to participate by telephone. Please contact Jeanne Edwards at jeanne.edwards@ferc.gov, or (202) 502-6181, by close of business Friday, July 2, 2015, to R.S.V.P. and receive specific instructions on how to participate.

Dated: June 19, 2015.
Kimberly D. Bose,
Secretary.

[FR Doc. 2015-15654 Filed 6-25-15; 8:45 am]

BILLING CODE 6717-01-P